DEPARTMENT OF THE TREASURY

Financial Management Service; Privacy Act of 1974; Systems of Records

AGENCY: Financial Management Service, Treasury.

ACTION: Notice of systems of records.

SUMMARY: In accordance with the requirements of the Privacy Act of 1974, as amended, 5 U.S.C. 552a, Financial Management Service is publishing its inventory of Privacy Act systems of records.

SUPPLEMENTARY INFORMATION: Pursuant to the Privacy Act of 1974 (5 U.S.C. 552a) and the Office of Management and Budget (OMB) Circular No. A-130, Financial Management Service (FMS) has completed a review of its Privacy Act systems of records notices to identify minor changes to those notices.

The following systems of records have been added to the bureau's inventory of Privacy Act notices since August 21, 2001:

FMS .004—Education and Training Records, published June 3, 2004, at 69 FR 31454.

FMS .017—Collections Records, published on February 4, 2003, at 68 FR 5691.

This publication incorporates the amendments to FMS.003 published on January 9, 2003 at 68 FR 1216, FMS.002, .014 and .016 published on February 26, 2003 at 68 FR 8964, FMS.002 and .016 published on April 1, 2003 at 68 FR 15796, and FMS.016 published on May 6, 2004 at 69 FR 25461.

The systems notices are reprinted in their entirety following the Table of Contents.

Systems Covered by This Notice

This notice covers all systems of records adopted by the Bureau up to May 2, 2005. The systems notices are reprinted in their entirety following the Table of Contents.

Dated: June 2, 2005.
Nicholas Williams,
Deputy Assistant Secretary for Headquarters Operations.

Financial Management Service (FMS)

Table of Contents

FMS. 001—Administrative Records.

FMS .002—Payment Issue Records for Regular Recurring Benefit Payments.

FMS .003—Claims and Inquiry Records on Treasury Checks, and International Claimants.

FMS .004—Education and Training Records

FMS .005—FMS Personnel Records.

FMS .007—Payroll and Pay Administration.

FMS .010—Records of Accountable Officers' Authority With Treasury.

FMS .012—Pre-complaint Counseling and Complaint Activities.

FMS .013—Gifts to the United States.

FMS .014—Debt Collection Operations System.

FMS .016—Payment Records for Other Than Regular Recurring Benefit Payments.

FMS .017—Collections Records

TREASURY/FMS.001

System name:

Administrative Records—Treasury/Financial Management Service.

System location:

Financial Management Service, U.S. Department of the Treasury, Prince George Metro Center II, 3700 East-West Highway, Room 144, Hyattsville, MD 20782. Also, please see Appendix I.

Categories of individuals covered by the system:

Financial Management Service personnel.

Categories of records in the system:

(1) Motor Vehicle Accident Reports. (2) Parking Permits. (3) Distribution list of individuals requesting various Treasury publications. (4) Treasury Credentials.

Authority for maintenance of the system:

5 U.S.C. 301.

Routine uses of records maintained in the system, including categories of users and the purposes of such uses:

These records may be used to:

(1) Disclose to GSA for drivers permits, parking permits, accident reports, and credentials;

(2) Disclose to GPO for servicing public on Treasury publications.

Policies and practices for storing, retrieving, accessing, retaining, disposing of records in the system:

Storage:

Hard copy and microcomputer.

Retrievability:

By name and by Treasury publication.

Safeguards:

Locked containers.

Administrative Procedure—names are not given to anyone except those who control the listing.

Retention and disposal:

(1) Distribution List—destroy one year after declared obsolete.

(2) Motor Vehicle Accident Reports—six years after closure of the case.

(3) Parking permits and Treasury Credentials—destroy 3 months after return to issuing officer.

System manager(s) and address:

Director, Facilities Management Division, Financial Management Service, U.S. Department of the Treasury, Prince George Metro Center II, 3700 East-West Highway, Room 144, Hyattsville, MD 20782.

Notification procedure:

Inquiries under the Privacy Act of 1974 shall be sent to the Disclosure Officer, Financial Management Service, U.S. Department of the Treasury, Liberty Center Building, 401 14th St., SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer at the address shown above. All individuals are urged to examine the rules of the U.S. Department of the Treasury published in 31 CFR part 1, subpart C concerning requirements of this Department with respect to the Privacy Act of 1974.

Contesting record procedures:

See “Record access procedures” above.

Record source categories:

Financial Management Service personnel.

Exemptions claimed for the system:

None.

APPENDIX I to FMS.001

Motor Vehicle Accident Reports: Prince George Metro Center II, 3700 East-West Highway, Room 127, Hyattsville, MD 20782.

Parking Permits: 1. Prince George Metro Center II, 3700 East-West Highway, Room 127, Hyattsville, MD 20782.

2. Liberty Center Building, 401 14th Street, SW., Room 118, Washington, DC 20227.

Distribution List: Prince George Metro Center II, 3700 East-West Highway, Hyattsville, MD 20782.

Treasury Credentials: Prince George Metro Center II, 3700 East-West Highway, Room 158-B, Hyattsville, MD 20782.

TREASURY/FMS.002

System name:

Payment Issue Records for Regular Recurring Benefit Payments—Treasury/Financial Management Service.

System location:

The Financial Management Service, U.S. Department of the Treasury, Washington, DC 20227 and Hyattsville, MD 20782. Records maintained at Financial Centers in five regions: Austin, TX; Birmingham, AL; Kansas City, MO; Philadelphia, PA; and San Francisco, CA.

Categories of individuals covered by the system:

(1) Beneficiaries of Title II of the Social Security Act.

(2) Beneficiaries of Title XVI of the Social Security Act.

(3) Beneficiaries of the Civil Service Retirement System.

(4) Beneficiaries of the Railroad Retirement System.

(5) Beneficiaries of the Department of Veterans Affairs.

(6) Holders of Series H and HH Bonds (interest payment).

Categories of records in the system:

Payment issue records for regular recurring benefit payments showing name, check number and symbol, or other identification, address, account number, payment amount, and date of issuance for each of the categories of individuals listed above.

Authority for maintenance of the system:

5 U.S.C. 301; Executive Order 6166, dated June 10, 1933.

Routine uses of records maintained in the system, including categories of users and the purposes of such uses:

These records may be used to:

(1) Disclose to banking industry for payment verification;

(2) Disclose to Federal investigative agencies, Departments and agencies for whom payments are made, and payees;

(3) Disclose pertinent information to appropriate Federal, State, local or foreign agencies responsible for investigating or prosecuting the violations of, or for enforcing or implementing, a statute, rule, regulation, order, or license, where the disclosing agency becomes aware of an indication of a violation or potential violation of civil or criminal law or regulation;

(4) Disclose information to a Federal, State, or local agency, maintaining civil, criminal or other relevant enforcement information or other pertinent information, which has requested information relevant to or necessary to the requesting agency's or the bureau's hiring or retention of an individual, or issuance of a security clearance, license, contract, grant, or other benefit;

(5) Disclose information to a court, magistrate, or administrative tribunal in the course of presenting evidence, including disclosures to opposing counsel or witnesses in the course of civil discovery, litigation, or settlement negotiations, in response to a subpoena, or in connection with criminal law proceedings;

(6) Disclose information to foreign governments in accordance with formal or informal international agreements;

(7) Provide information to a congressional office in response to an inquiry made at the request of the individual to whom the record pertains;

(8) Provide information to the news media in accordance with guidelines contained in 28 CFR 50.2 which relate to an agency's functions relating to civil and criminal proceedings;

(9) Provide information to unions recognized as exclusive bargaining representatives under the Civil Service Reform Act of 1978, 5 U.S.C. 7111 and 7114;

(10) Provide information to third parties during the course of an investigation to the extent necessary to obtain information pertinent to the investigation;

(11) Disclose information concerning delinquent debtors to Federal creditor agencies, their employees, or their agents for the purpose of facilitating or conducting Federal administrative offset, Federal tax refund offset, Federal salary offset, or for any other authorized debt collection purpose;

(12) Disclose information to any State, Territory or Commonwealth of the United States, or the District of Columbia to assist in the collection of State, Commonwealth, Territory or District of Columbia claims pursuant to a reciprocal agreement between FMS and the State, Commonwealth, Territory or the District of Columbia;

(13) Disclose to the Defense Manpower Data Center and the United States Postal Service and other Federal agencies through authorized computer matching programs for the purpose of identifying and locating individuals who are delinquent in their repayment of debts owed to the Department or other Federal agencies in order to collect those debts through salary offset and administrative offset, or by the use of other debt collection tools;

(14) Disclose information to a contractor of the Financial Management Service for the purpose of performing routine payment processing services, subject to the same limitations applicable to FMS officers and employees under the Privacy Act; and

(15) Disclose information to a fiscal or financial agent of the Financial Management Service, its employees, agents, and contractors, or to a contractor of the Financial Management Service, for the purpose of ensuring the efficient administration of payment processing services, subject to the same or equivalent limitations applicable to FMS officers and employees under the Privacy Act.

Policies and practices for storing, retrieving, accessing, retaining, disposing of records in the system:

Storage:

Microfilm-magnetic tape for categories of individuals 1 through 6.

Retrievability:

By account number.

Safeguards:

Computer password system, card-key entry system, limited to authorized personnel.

Retention and disposal:

Indefinitely.

System manager(s) and address:

Chief, Disbursing Officer, Financial Management Service, 401 14th Street, SW., Washington, DC 20227.

Notification procedure:

Inquiries under the Privacy Act of 1974 shall be addressed to the Disclosure Officer, Financial Management Service, 401 14th Street, SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer at the address shown above. All individuals are urged to examine the rules of the U.S. Department of the Treasury published in 31 CFR, part 1, subpart C concerning requirements of this Department with respect to the Privacy Act of 1974.

Contesting record procedures:

See “Record access procedures” above.

Record source categories:

Voucher certifications by Departments and agencies for whom payments are made.

Exemptions claimed for the system:

None.

TREASURY/FMS.003

System name:

Claims and Inquiry Records on Treasury Checks, and International Claimants—Treasury/Financial Management Service.

System location:

Financial Management Service, U.S. Department of the Treasury, Prince George Metro Center II, 3700 East-West Highway, Room 727D, Hyattsville, MD 20782.

Categories of individuals covered by the system:

(1) Payees and holders of Treasury checks, (2) Claimants awarded benefits under the War Claims Act and the International Claims Settlement Act of 1949.

Categories of records in the system:

(1) Treasury check claim file: Treasury check, claim of payee with name and address, settlement action taken.

(2) Awards for claims for losses sustained by individuals.

Authority for maintenance of the system:

5 U.S.C. 301; (1) For Treasury check claims—31 U.S.C. 71 with delegation of authority from Comptroller General of the United States; (2) International claims—50 U.S.C. 2012; 22 U.S.C. 1627, 1641, 1642.

Routine uses of records maintained in the system, including categories of users and the purposes of such uses:

(1) Information is routinely disclosed to endorsers concerning checks for which there is liability, Federal agencies, State and local law enforcement agencies, General Accounting Office, Congressional offices and media assistance offices on behalf of payee claimants.

(2) International Claims—Information in files is used by claimants (awardees) and their representatives, Foreign Claims Settlement Commission, and Congressmen. These records and information in the records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) To provide information to unions recognized as exclusive bargaining representatives under the Civil Service Reform Act of 1978, 5 U.S.C. 7111 and 7114;

(8) Provide information to third parties during the course of an investigation to the extent necessary to obtain information pertinent to the investigation, and

(9) Disclose information to the public when attempts by FMS to locate the claimant have been unsuccessful. This information is limited to the claimant's name and city and state of last known address, and the amount owed to the claimant. (This routine use does not apply to the Iran Claims Program or the Holocaust Survivors Claims Program or other claims programs that statutorily prohibit disclosure of claimant information.)

Policies and practices for storing, retrieving, accessing, retaining, disposing of records in the system:

Storage:

(1) Claim file folders, card/paper checks, microfilm, and magnetic media.

(2) Correspondence files.

(3) Claim file folders.

Retrievability:

(1) Name of payee and check number and symbol.

(2) Alpha cross-reference to case number.

(3) Name of claimant or alpha reference to claim number.

Safeguards:

(1) Secured building,

(2) Secured files in secured building.

Retention and disposal:

(1) Claim files and checks, six years seven months; Microfilm, indefinitely.

(2) Correspondence files—seven years.

(3) Claim file folders—indefinitely.

System manager(s) and address:

Category 1: Director, Financial Processing Division, Prince George Metro Center II, 3700 East-West Highway, Room 727D, Hyattsville, MD 20782. Category 2: Director, Funds Management Division, Prince George Metro Center II, 3700 East-West Highway, Room 620D, Hyattsville, MD 20782.

Notification procedure:

Inquiries under the Privacy Act of 1974 shall be addressed to the Disclosure Officer, Financial Management Service, 401 14th St., SW., Washington, DC 20227. All individuals making inquiries should provide with their request as much descriptive matter as is possible to identify the particular record desired. The system managers will advise as to whether the Service maintains the record requested by the individual.

Record access procedures:

Individuals requesting information under the Privacy Act of 1974 concerning procedures for gaining access or contesting records should write to: Disclosure Officer, Financial Management Service, U.S. Department of the Treasury, 401 14th Street, SW., Washington, DC 20227.

All individuals are urged to examine the rules of the U.S. Department of the Treasury published in 31 CFR part 1, subpart C concerning requirements of this Department with respect to the Privacy Act of 1974.

Contesting record procedures:

See “Record access procedures” above.

Record source categories:

(1) Individual payees of Treasury checks, endorsers of Treasury checks, investigative agencies, contesting claimants.

(2) Awards certified to Treasury for payment by Foreign Claims Settlement Commission.

Exemptions claimed for the system:

None.

TREASURY/FMS.004

System name:

Education and Training Records—Treasury/FMS.

System location:

Financial Management Service, U.S. Department of the Treasury, 401 14th St., SW., Washington, DC 20227; Financial Management Service, U.S. Department of the Treasury, 1990 K Street, NW., Suite 300, Washington, DC 20006.

Categories of individuals covered by the system:

All Government employees (including separated employees, in certain cases) and other individuals who access and apply for FMS training services.

Categories of records in the system:

(1) Personal Profile—Account Record;

(2) Transcript Record;

(3) Enrollment Status Record;

(4) Job Skills Record;

(5) Individual Development Plan Record;

(6) Assessment Performance Results Record;

(7) Managerial Approval/Disapproval Status Record;

(8) Class Roster Record;

(9) Certificate—Training Program Status Record;

(10) Class Evaluation Record;

(11) Payment Record;

(12) Statistical Reports—retrievable by names: (a) Personnel Transcript Report, (b) Class Enrollment Report, (c) Class Payment/Billing Report, (d) Status of Training Report, (e) Ad hoc Training Report, and (f) Other similar files or registers.

Authority for maintenance of the system:

5 U.S.C. 301; 31 U.S.C. 321; 31 U.S.C. chapter 33; 31 U.S.C. 3720.

Purpose(s):

The purpose of this system is to maintain records about Government employees and other individuals who participate in FMS' education and training program. The information contained in the records will assist FMS in properly tracking individual training and accurately account for training revenue and expenditures generated through the FMS' training programs (for example, Learning Management System (LMS)). For FMS personnel, the records contained in FMS' training records will also assist managers' active participation in their employees' learning plans. FMS maintains the information necessary to ensure that FMS keeps accurate records related to classes, including a training participant's training and enrollment status, class completion information, transcripts and certificates of accomplishment. FMS also maintains the records to ensure that financial records pertaining to a training participant's payment for training fees are maintained accurately. FMS' training records will serve to report receipts to the appropriate Federal agency (currently the Treasury Department's Bureau of Public Debt) responsible for maintaining FMS' financial records for training. Finally, the information contained in the covered records will be used for collateral purposes related to the training processes, such as the collection of statistical information on training programs, development of computer systems, investigation of unauthorized or fraudulent activity related to submission of information to FMS for training program purposes and the collection of debts arising out of such activity.

Routine uses of records maintained in the system, including categories of users and the purposes of such uses:

These records may be used to disclose information to:

(1) Appropriate Federal, State, local or foreign agencies responsible for investigating or prosecuting the violation of, or for enforcing or implementing, a statute, rule, regulation, order, or license;

(2) A court, magistrate, or administrative tribunal, in the course of presenting evidence, including disclosures to opposing counsel or witnesses, for the purpose of civil discovery, litigation, or settlement negotiations or in response to a subpoena, where relevant or potentially relevant to a proceeding, or in connection with criminal law proceedings;

(3) A congressional office in response to an inquiry made at the request of the individual to whom the record pertains;

(4) Federal agencies, financial institutions, and contractors for the purpose of performing financial management services, including, but not limited to, processing payments, investigating and rectifying possible erroneous reporting information, testing and enhancing related computer systems, creating and reviewing statistics to improve the quality of services provided, or conducting debt collection services;

(5) Federal agencies, their agents and contractors for the purposes of facilitating the collection of receipts, determining the acceptable method of collection, the accounting of such receipts, and the implementation of programs related to the receipts being collected as well as status of their personnel training, statistical training information;

(6) Financial institutions, including banks and credit unions, and credit card companies for the purpose of collections and/or investigating the accuracy of information required to complete transactions using electronic methods and for administrative purposes, such as resolving questions about a transaction;

(7) Provide information to unions recognized as exclusive bargaining representatives under the Civil Service Reform Act of 1978, 5 U.S.C. 7111 and 7114;

(8) Foreign governments in accordance with formal or informal international agreements and maintain proper administrative or financial controls related to the training activity;

(9) Provide information to third parties during the course of an investigation to the extent necessary to obtain information pertinent to the investigation;

(10) Federal agencies, their agents and contractors, credit bureaus, and employers of individuals who owe delinquent debt when the debt arises from the unauthorized use of electronic payment methods. The information will be used for the purpose of collecting such debt through offset, administrative wage garnishment, referral to private collection agencies, litigation, reporting the debt to credit bureaus, or for any other authorized debt collection purpose, and

(11) Representatives of the National Archives and Records Administration (NARA) who are conducting records management inspections under authority of 44 U.S.C. 2904 and 2906.

Policies and practices for storing, retrieving, accessing, retaining, and disposing of records in the system:

Storage:

Records are maintained in electronic media, such as server hard drive, magnetic back-up tape storage, removable optical storage backup media (such as compact disc (CD) or Digital Video Disc {DVD}{time}) and hard copy.

Retrievability:

All captured data (both personal and course) and information can be retrieved as required for the proper administration of the system, within the LMS software's capability. Generally, for training purposes, these records will be retrieved by Class Name and/or Organization Name and Participant Name. For financial purposes, these records will generally be by Name, Organization and payment information (Credit Card, Form 182, DD Form 1556, for example).

Safeguards:

All records are maintained in a secured building, secured room, and locked cabinets. FMS personnel access to training data is primarily for the purpose of using the training services or administering the LMS. For technical and administrative purposes, non-FMS personnel access is limited to contractors who are maintaining the LMS system in the normal performance of their duties and have completed non-disclosure statements and undergone security background checks consistent with their access in accordance with the existing contract.

Retention and disposal:

Records are maintained and disposed of in accordance with General Records Schedules issued by the National Archives and Records Administration.

System manager and address:

Assistant Commissioner, Treasury Agency Services, Financial Management Service, U.S. Department of the Treasury, 1990 K Street, NW., Suite 300, Washington, DC 20006.

Notification procedure:

Inquiries under the Privacy Act of 1974 shall be addressed to the Disclosure Officer, Financial Management Service, 401 14th St., SW., Washington, DC 20227. All individuals making inquiries should provide with their request as much descriptive matter as is possible to identify the particular record desired. The system manager will advise as to whether the Service maintains the record requested by the individual.

Record access procedures:

Individuals requesting information under the Privacy Act of 1974, as amended, concerning procedures for gaining access to or contesting records should write to the Disclosure Officer. All individuals are urged to examine the rules of the U.S. Department of the Treasury published in 31 CFR part 1, subpart C, and appendix G, concerning requirements of this Department with respect to the Privacy Act of 1974.

Contesting record procedures:

See “Record Access Procedures” above.

Record source categories:

Information in this system is provided by: The individual on whom the record is maintained; the individual's employer, other governmental agency or educational institutions.

Exemptions claimed for the system:

None.

TREASURY/FMS.005

System name:

FMS Personnel Records—Treasury/Financial Management Service.

System location:

Financial Management Service, U.S. Department of the Treasury, 401 14th St., SW., Washington, DC 20227; Financial Management Service, U.S. Department of the Treasury, Prince George Metro Center II, 3700 East-West Highway, Hyattsville, MD 20782.

Categories of individuals covered by the system:

All Employees of Service (separated employees—in certain cases) and applicants.

Categories of records in the system:

(1) Locator Cards.

(2) Incentive Awards Record.

(3) Official Personnel Folder.

(4) Personnel Roster.

(5) Logs of SF-52's.

(6) Correspondence File.

(7) Position Listings.

(8) Position Descriptions with Evaluation Statements.

(9) Personnel Management Evaluation Survey Reports.

(10) Request for Certification File.

(11) Merit Promotion File.

(12) Exit Interview File.

(13) Performance File.

(14) Statistical Reports—retrievable by names: (a) Personnel Status Report, (b) Ad Hoc Retiree Report, (c) Monthly EEO report, (d) Direct Hire Authority Report, (e) Registers Worked File, (f) Statements of Employment and Financial Interest, and (g) Other similar files or registers.

(15) Training Course Nominations.

(16) Evaluation of Training Program.

(17) Tuition Assistance Files.

(18) Senior Executive Service Development File.

(19) Management Development File.

Authority for maintenance of the system:

Executive Order 10561, dated September 13, 1954, Federal Personnel Manual, and Title 5 of U.S.C. Code.

Routine uses of records maintained in the system, including categories of users and the purposes of such uses:

These records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) To provide information to unions recognized as exclusive bargaining representatives under the Civil Service Reform Act of 1978, 5 U.S.C. 7111 and 7114, and

(8) Provide information to third parties during the course of an investigation to the extent necessary to obtain information pertinent to the investigation.

Policies and practices for storing, retrieving, accessing, retaining, disposing of records in the system:

Storage:

Hard copy and magnetic storage.

Retrievability:

Alphabetically by name; also in some instances by organization, then Social Security number.

Safeguards:

Secured building, secured room, and locked cabinets. Non-FMS access is limited to investigators from OPM, etc., members of Fair Employment staff and Union officials.

Retention and disposal:

Records are maintained and disposed of in accordance with General Records Schedules issued by the National Archives and Records Administration.

System manager(s) and address:

Director, Personnel Management Division, Financial Management Service, U.S. Department of the Treasury, Prince George Metro Center II, 3700 East-West Highway, Room 115-F, Hyattsville, MD 20782.

Notification procedure:

Inquiries under the Privacy Act of 1974 shall be addressed to the Disclosure Officer, Financial Management Service, 401 14th St., SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer at the address shown above. All individuals are urged to examine the rules of the U.S. Department of the Treasury published in 31 CFR part 1, subpart C concerning requirements of this Department with respect to the Privacy Act of 1974.

Contesting record procedures:

See “Record access procedures” above.

Record source categories:

Applicant Personnel Action Forms (SF-50), SF-171 (completed by applicant), Payroll Actions References, Educational Institutions, etc.

Exemptions claimed for the system:

None.

TREASURY/FMS.007

System name:

Payroll and Pay Administration—Treasury/Financial Management Service.

System location:

Financial Management Service, U.S. Department of the Treasury, Prince George Metro Center II, 3700 East-West Highway, Room 133 and 101A, Hyattsville, MD 20782; and Room 120, Liberty Center Building, Washington, DC 20227.

Categories of individuals covered by the system:

All employees of the Service and separated employees.

Categories of records in the system:

(1) Official Payroll Folder (a) Levy and Garnishment Records. (b) SF-1192-Savings Bond Authorization. (c) SF-1199A-Allotment of Pay to Saving Account. (d) Copies of SF-50-Notification of Personnel Action. (e) Withholding Tax Exemptions. (f) Copy of Health Benefit Designation. (g) Copy of Life Insurance Forms. (h) Payroll Change Slips. (I) Combined Federal Campaign Designations. (j) Copy of SF-1150. (2) Time and Attendance Reports (a) SF-71 Request for Leave. (b) Court Leave Documents. (c) Request for Advancement of Leave. (3) Payroll Comprehensive Listing (a) Current Payment Information. (b) Record of Leave Earned and Used. (c) All Deductions from Pay. (d) Personnel Information such as Grade, Step, Salary, Title, Date of Birth, Social Security Number, Veterans Preference, Tenure, etc. (4) Payroll Control Registers.

Authority for maintenance of the system:

Title 5—Pay, Leave and Allowances.

Routine uses of records maintained in the system, including categories of users and the purposes of such uses:

Disclosure permitted to Federal Agencies and to State and Local Agencies for tax purposes.

Policies and practices for storing, retrieving, accessing, retaining, disposing of records in the system:

Storage:

Hard copy, microfiche, and magnetic media.

Retrievability:

By Social Security number.

Safeguards:

Secured building, secured room and locked cabinets.

Retention and disposal:

Records are stored, maintained and disposed of in accordance with General Records Schedules issued by the National Archives and Records Administration.

System manager(s) and address:

Director, Personnel Management Division, Financial Management Service, Prince George Metro Center II, 3700 East-West Highway, Room 115-F, Hyattsville, MD 20782.

Notification procedure:

Inquiries under the Privacy Act of 1974 shall be addressed to the Disclosure Officer, 401 14th St., SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer at the address shown above. All individuals are urged to examine the rules of the U.S. Department of the Treasury published in 31 CFR part 1, subpart C concerning requirements of this Department with respect to the Privacy Act of 1974.

Contesting record procedures:

See “Record access procedures” above.

Record source categories:

From individual Service employees.

Exemptions claimed for the system:

None.

TREASURY/FMS.010

System name:

Records of Accountable Officers' Authority with Treasury—Treasury/Financial Management Service.

System location:

Financial Management Service, U.S. Department of the Treasury, Liberty Center Building, 401 14th Street, SW., Washington, DC 20227.

Categories of individuals covered by the system:

(1) Regional Directors.

(2) Certifying Officers.

(3) Designated Agents.

Categories of records in the system:

Records are maintained on the above listed accountable officers showing the designation or removal of the officer to act in the specified capacity pursuant to a proper authorization.

Authority for maintenance of the system:

5 U.S.C. 301; Executive Order 6166, dated June 10, 1933.

Routine uses of records maintained in the system, including categories of users and the purposes of such uses:

These records may be used to:

(1) Disclose to Banking institutions, Federal Reserve Banks, and Government agencies for verification of information on authority of accountable officers to determine propriety of actions taken by such individuals;

(2) Disclose pertinent information to appropriate Federal, State, local or foreign agencies responsible for investigating or prosecuting the violations of, or for enforcing or implementing, a statute, rule, regulation, order, or license, where the disclosing agency becomes aware of an indication of a violation or potential violation of civil or criminal law or regulation;

(3) Disclose information to a Federal, State, or local agency, maintaining civil, criminal or other relevant enforcement information or other pertinent information, which has requested information relevant to or necessary to the requesting agency's or the bureau's hiring or retention of an individual, or issuance of a security clearance, license, contract, grant, or other benefit;

(4) Disclose information to a court, magistrate, or administrative tribunal in the course of presenting evidence, including disclosures to opposing counsel or witnesses in the course of civil discovery, litigation, or settlement negotiations, in response to a subpoena, or in connection with criminal law proceedings;

(5) Disclose information to foreign governments in accordance with formal or informal international agreements;

(6) Provide information to a congressional office in response to an inquiry made at the request of the individual to whom the record pertains;

(7) Provide information to the news media in accordance with guidelines contained in 28 CFR 50.2 which relate to an agency's functions relating to civil and criminal proceedings;

(8) Provide information to unions recognized as exclusive bargaining representatives under the Civil Service Reform Act of 1978, 5 U.S.C. 7111 and 7114; and

(9) Provide information to third parties during the course of an investigation to the extent necessary to obtain information pertinent to the investigation.

Policies and practices for storing, retrieving, accessing, retaining, disposing of records in the system:

Storage:

Card files; paper files.

Retrievability:

By name.

Safeguards:

Regional Directors' files are locked.

Retention and disposal:

Hard-copy records are maintained and disposed of in accordance with General Records Schedules issued by the National Archives and Records Administration.

System manager(s) and address:

Chief, Disbursing Officer, Financial Management Service, U.S. Department of the Treasury, 401 14th Street, SW., Room 343, Washington, DC 20227.

Director, Austin Regional Financial Center, Financial Management Service, Department of the Treasury, 1619 E. Woodward Street, Austin, TX 78741.

Director, Birmingham Regional Financial Center, Financial Management Service, Department of the Treasury, 190 Vulcan Road, Birmingham, AL 35109.

Director, Chicago Regional Financial Center, Financial Management Service, Federal Office Building, 536 S. Clark Street, Chicago, IL 60605.

Director, Kansas City Regional Financial Center, Financial Management Service, Department of the Treasury, 2100 W. 36th Avenue, Kansas City, KS 66103.

Director, Philadelphia Regional Financial Center, Financial Management Service, 1300 Townsend Road, Philadelphia, PA 19154. Director, San Francisco Regional Financial Center, 390 Main Street, San Francisco, CA 94104.

Notification procedure:

Inquiries under the Privacy Act of 1974 shall be addressed to the Disclosure Officer, Financial Management Service, 401 14th St., SW., Washington, DC 20227. All individuals making inquiries should provide with their request as much descriptive matter as is possible to identify the particular record desired. The system managers will advise as to whether the Service maintains the record requested by the individual.

Record access procedures:

Individuals requesting information under the Privacy Act of 1974 concerning procedures for gaining access or contesting records should write to the Disclosure Officer. All individuals are urged to examine the rules of the U.S. Department of the Treasury published in 31 CFR part 1, subpart C concerning requirements of this Department with respect to the Privacy Act of 1974.

Contesting record procedures:

See “Record access procedures” above.

Record source categories:

Government Departments and Agencies requiring services of Treasury Department for issuance and payment of Treasury checks.

Exemptions claimed for the system:

None.

TREASURY/FMS.012

System name:

Pre-complaint Counseling and Complaint Activities—Treasury/Financial Management Service.

System location:

Financial Management Service, U.S. Treasury Department, Prince George Metro Center II, 3700 East-West Highway, Room 132, Hyattsville, MD 20782.

Categories of individuals covered by the system:

Employees seeking services of EEO Counselors.

Categories of records in the system:

Monthly pre-complaint activity reports from seven Financial Centers and Headquarters.

Authority for maintenance of the system:

5 U.S.C. 7154; 42 U.S.C. 200e-16; Executive Order 11478; and 5 CFR part 713.

Routine uses of records maintained in the system, including categories of users and the purposes of such uses:

Used to keep records on EEO Counseling activities for annual submission to Treasury.

Policies and practices for storing, retrieving, accessing, retaining, disposing of records in the system:

Storage:

File cabinet.

Retrievability:

Filed by station and date of receipt.

Safeguards:

Staff supervision is maintained during the day. Records are kept locked in the files.

Retention and disposal:

Reports destroyed at the end of four years.

System manager(s) and address:

EEO Officer, Financial Management Service, Prince George Metro Center II, 3700 East-West Highway, Room 132, Hyattsville, MD 20782.

Notification procedure:

Inquiries under the Privacy Act of 1974 shall be addressed to the Disclosure Officer, 401 14th Street, SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer. All individuals are urged to examine the rules of the U.S. Department of the Treasury published in 31 CFR part 1, subpart C concerning requirements of this Department with respect to the Privacy Act of 1974.

Contesting record procedures:

See “Record access procedures” above.

Record source categories:

Monthly submissions by Financial Centers and Headquarters.

Exemptions claimed for the system:

None.

TREASURY/FMS.013

System name:

Gifts to the United States-Treasury/Financial Management Service.

System location:

Financial Management Service, U.S. Department of the Treasury, Prince George Metro Center II, 3700 East-West Highway, Hyattsville, MD 20782.

Categories of individuals covered by the system:

Donors of intervivos and testamentary gifts to the United States.

Categories of records in the system:

Correspondence, copies of wills and court proceedings, and other material related to gifts to the United States.

Authority for maintenance of the system:

31 U.S.C. 3113.

Routine uses of records maintained in the system, including categories of users and the purposes of such uses:

Disclosures are not made outside of the Department.

Policies and practices for storing, retrieving, accessing, retaining, and disposing of records in the system:

Storage:

Filing cabinets.

Retrievability:

Name of donor.

Safeguards:

Access is limited to persons on official business.

Retention and disposal:

Records are maintained for 10 years.

System manager(s) and address:

Financial Information Management, Directorate, Financial Management Service, Prince George Metro Center II, 3700 East-West Highway, Hyattsville, MD 20782.

Notification procedure:

Individuals wishing to be notified if they are named in this system of records, or gain access to records maintained in this system must submit a written request containing the following elements:

(1) Identify the record system;

(2) Identify the category and type of records sought; and

(3) Provide at least two items of secondary identification (date of birth, employee identification number, dates of employment or similar information). Address inquiries to Disclosure Officer (See “Record access procedures” below).

Record access procedures:

Disclosure Officer, Financial Management Service, U.S. Department of the Treasury, Liberty Center Building, 401 14th Street, SW., Washington, DC 20227.

Contesting record procedures:

See “Record access procedures” above.

Record source categories:

Individuals, executors, administrators and other involved persons.

Exemptions claimed for the system:

None.

TREASURY/FMS.014

System name:

Debt Collection Operations System—Treasury/Financial Management Service.

System location:

Records are located in the offices of and with the Debt Management Services staff of the Financial Management Service, U.S. Department of the Treasury at the following locations: Liberty Center Building (Headquarters), 401 14th Street, SW., Washington, DC 20227; Prince George's Plaza, 3700 East-West Highway, Hyattsville, MD, 20782; and the Birmingham Debt Management Operations Center, 190 Vulcan Road, Homewood, Alabama, 35209.

Categories of individuals covered by the system:

Individuals who owe debts to: (a) The United States, through one or more of its departments and agencies; and/or (b) States, territories and commonwealths of the United States, and the District of Columbia (hereinafter collectively referred to as “states”).

Categories of records in the system:

Debt records containing information about the debtor(s), the type of debt, the governmental entity to which the debt is owed, and the debt collection tools utilized to collect the debt. The records may contain identifying information, such as name(s) and taxpayer identifying number (i.e., social security number or employer identification number); debtor contact information, such as work and home address, and work and home telephone numbers; and name of employer and employer address. Debts include unpaid taxes, loans, assessments, fines, fees, penalties, overpayments, advances, extensions of credit from sales of goods or services, and other amounts of money or property owed to, or collected by, the Federal Government or a state, including past due support which is being enforced by a state. The records also may contain information about: (a) The debt, such as the original amount of the debt, the debt account number, the date the debt originated, the amount of the delinquency or default, the date of delinquency or default, basis for the debt, amounts accrued for interest, penalties, and administrative costs, and payments on the account; (b) Actions taken to collect or resolve the debt, such as copies of demand letters or invoices, documents or information required for the referral of accounts to collection agencies or for litigation, and collectors' notes regarding telephone or other communications related to the collection or resolution of the debt; and (c) The referring or governmental agency that is collecting or owed the debt, such as name, telephone number, and address of the agency contact.

Authority for maintenance of the system:

Federal Claims Collection Act of 1966 (Pub. L. 89-508), as amended by the Debt Collection Act of 1982 (Pub. L. 97-365, as amended); Deficit Reduction Act of 1984 (Pub. L. 98-369, as amended); Debt Collection Improvement Act of 1996 (Pub. L. 104-134, sec. 31001); Taxpayer Relief Act of 1997 (Pub. L. 105-34); Internal Revenue Service Restructuring and Reform Act of 1998 (Pub. L. 105-206); 26 U.S.C. 6402; 26 U.S.C. 6331; 31 U.S.C. Chapter 37 (Claims), Subchapter I (General) and Subchapter II (Claims of the U.S. Government).

Purpose(s):

The purpose of this system is to maintain records about individuals who owe debt(s) to the United States, through one or more of its departments and agencies, and/or to states, including past due support enforced by states. The information contained in the records is maintained for the purpose of taking action to facilitate the collection and resolution of the debt(s) using various collection methods, including, but not limited to, requesting repayment of the debt by telephone or in writing, offset, levy, administrative wage garnishment, referral to collection agencies or for litigation, and other collection or resolution methods authorized or required by law. The information also is maintained for the purpose of providing collection information about the debt to the agency collecting the debt, to provide statistical information on debt collection operations, and for the purpose of testing and developing enhancements to the computer systems which contain the records.

Routine uses of records maintained in the system, including categories of users and the purposes of such uses:

These records may be used to disclose information to:

(1) Appropriate Federal, state, local or foreign agencies responsible for investigating or implementing, a statute, rule, regulation, order, or license;

(2) A court, magistrate, or administrative tribunal in the course of presenting evidence, including disclosures to opposing counsel or witnesses in the course of civil discovery, litigation, or settlement negotiations, in response to a subpoena where relevant or potentially relevant to a proceeding, or in connection with criminal law proceedings;

(3) A congressional office in response to an inquiry made at the request of the individual to whom the record pertains;

(4) Any Federal agency, state or local agency, U.S. territory or commonwealth, or the District of Columbia, or their agents or contractors, including private collection agencies (consumer and commercial):

a. To facilitate the collection of debts through the use of any combination of various debt collection methods required or authorized by law, including, but not limited to;

(i) Request for repayment by telephone or in writing;

(ii) Negotiation of voluntary repayment or compromise agreements;

(iii) Offset of Federal payments, which may include the disclosure of information contained in the records for the purpose of providing the debtor with appropriate pre-offset notice and to otherwise comply with offset prerequisites, to facilitate voluntary repayment in lieu of offset, and to otherwise effectuate the offset process;

(iv) Referral of debts to private collection agencies, to Treasury-designated debt collection centers, or for litigation;

(v) Administrative and court-ordered wage garnishment;

(vi) Debt sales;

(vii) Publication of names and identities of delinquent debtors in the media or other appropriate places; and

(viii) Any other debt collection method authorized by law;

b. To conduct computerized comparisons to locate Federal payments to be made to debtors;

c. To conduct computerized comparisons to locate employers of, or obtain taxpayer identifying numbers or other information about, an individual for debt collection purposes;

d. To collect a debt owed to the United States through the offset of payments made by states, territories, commonwealths, or the District of Columbia;

e. To account or report on the status of debts for which such entity has a financial or other legitimate need for the information in the performance of official duties;

f. For the purpose of denying Federal financial assistance in the form of a loan or loan guaranty to an individual who owes delinquent debt to the United States or who owes delinquent child support that has been referred to FMS for collection by administrative offset;

g. To develop, enhance and/or test database, matching, communications, or other computerized systems which facilitate debt collection processes; or

h. For any other appropriate debt collection purpose.

(5) The Department of Defense, the U.S. Postal Service, or other Federal agency for the purpose of conducting an authorized computer matching program in compliance with the Privacy Act of 1974, as amended, to identify and locate individuals receiving Federal payments including, but not limited to, salaries, wages, and benefits), which may include the disclosure of information contained in the records for the purpose of requesting voluntary repayment or implementing Federal employee salary offset or other offset procedures;

(6) The Department of Justice for the purpose of litigation to enforce collection of a delinquent debt or to obtain the Department of Justice's concurrence in a decision to compromise, suspend, or terminate collection action on a debt;

(7) Any individual or other entity who receives Federal payments as a joint payee with a debtor for the purpose of providing notice of, and information about, offsets from such Federal payments; and

(8) Any individual or entity:

a. To facilitate the collection of debts through the use of any combination of various debt collection methods required or authorized by law, including, but not limited to:

(i) Administrative and court-ordered wage garnishment;

(ii) Report information to commercial credit bureaus;

(iii) Conduct asset searches;

(iv) Publish names and identities of delinquent debtors in the media or other appropriate places; or

(v) Debt sales;

b. For the purpose of denying Federal financial assistance in the form of a loan or loan guaranty to an individual who owes delinquent debt to the United States or who owes delinquent child support that has been referred to FMS for collection by administrative offset; or

c. For any other appropriate debt collection purpose. Disclosure to consumer reporting agencies including for the provision of routine debt collection services by an FMS contractor subject to the same limitations applicable to FMS officers and employees under the Privacy Act:

Debt information concerning a government claim against a debtor is also furnished, in accordance with 5 U.S.C. 552a(b)(12) and 31 U.S.C. 3711(e), to consumer reporting agencies, as defined by the Fair Credit Reporting Act, 5 U.S.C. 1681(f), to encourage repayment of an overdue debt.

Policies and practices for storing, retrieving, accessing, retaining, and disposing of records in the system:

Storage:

Records are maintained in computer processible storage media, such as computer hard drives, magnetic disc, tape; in file folders; and on paper lists and forms.

Retrievability:

Records are retrieved by various combinations of name, taxpayer identifying number (i.e., social security number or employer identification number), or debt account number.

Safeguards:

All officials access the system of records on a need-to-know basis only, as authorized by the system manager. Procedural and physical safeguards are utilized, such as accountability, receipt records, and specialized communications security. Access to computerized records is limited, through use of access codes, entry logs, and other internal mechanisms, to those whose official duties require access. Hard-copy records are held in steel cabinets, with access limited by visual controls and/or lock system. During normal working hours, files are attended by responsible officials; files are locked up during non-working hours. The building is patrolled by uniformed security guards.

Retention and disposal:

Hard-copy records and electronic records shall be retained and disposed of in accordance with National Archives and Records Administration regulations (36 CFR Subchapter B—Records Retention); Treasury directives and FMS comprehensive records schedules.

System manager(s) and address:

System Manager, Debt Management Services, Financial Management Service, 401 14th Street, SW., Washington, DC 20227.

Notification procedure:

Inquiries under the Privacy Act of 1974, as amended, shall be addressed to the Disclosure Officer, Financial Management Service, 401 14th Street, SW., Washington, DC 20227. All individuals making inquiries should provide with their request as much descriptive matter as is possible to identify the particular record desired. The system manager will advise as to whether FMS maintains the records requested by the individual.

Record access procedures:

Individuals requesting information under the Privacy Act of 1974, as amended, concerning procedures for gaining access or contesting records should write to the Disclosure Officer. All individuals are urged to examine the rules of the U.S. Department of the Treasury published in 31 CFR part 1, subpart C, and appendix G, concerning requirements of this Department with respect to the Privacy Act of 1974, as amended.

Contesting record procedures:

See “Record access procedures” above.

Record source categories:

Information in this system is provided by the individual on whom the record is maintained, Federal and state agencies to which the debt is owed, Federal employing agencies and other entities that employ the individual, Federal and state agencies issuing payments, collection agencies, locator and asset search companies, credit bureaus, Federal, state or local agencies furnishing identifying information and/or address of debtor information, or from public documents.

Exemptions claimed for the system:

None.

TREASURY/FMS.016

System name:

Payment Records for Other Than Regular Recurring Benefit Payments—Treasury/Financial Management Service.

System location:

The Financial Management Service, U.S. Department of the Treasury, Washington, DC 20227 and Hyattsville, MD 20782. Records maintained at Financial Centers in five regions: Austin, TX; Birmingham, AL; Kansas City, MO; Philadelphia, PA; and San Francisco, CA. Records also are located throughout the United States at Federal Reserve Banks which act as Treasury's fiscal agents. The address(es) of the fiscal agents may be obtained from the system managers.

Categories of individuals covered by the system:

Persons who are the intended recipients or recipients of payments from the United States Government, and for whom vouchers have been certified for payment by departments or agencies and sent to FMS for disbursement.

Categories of records in the system:

Payment records showing name, social security or employer identification number or other agency identification number, address, payment amount, date of issuance, check number and symbol or other payment identification number, routing number of the payee's financial institution and the payee's account number at the financial institution, vendor contract and/or purchase order, and the name and location number of the certifying department or agency.

Authority for maintenance of the system:

5 U.S.C. 301; Executive Order 6166, dated June 10, 1933.

Purpose:

To facilitate disbursement of Federal monies to individuals by check or electronically, authorized under various programs of the Federal Government.

Routine uses of records maintained in the system, including categories of users and the purposes of such uses:

These records may be used to:

(1) Disclose to the banking industry for payment verification;

(2) Disclose to Federal agencies, departments and agencies for whom payments are made, and payees;

(3) Disclose pertinent information to appropriate Federal, State, local or foreign agencies responsible for investigating or prosecuting violations of, or for enforcing or implementing, a statute, rule, regulation, order, or license, where the disclosing agency becomes aware of an indication of a violation or potential violation of civil or criminal law or regulation;

(4) Disclose information to a Federal, State, or local agency, maintaining civil, criminal or other relevant enforcement information or other pertinent information, which has requested information relevant to or necessary to the requesting agency's or the bureau's hiring or retention of an individual, or issuance of a security clearance, license, contract, grant, or other benefit;

(5) Disclose information to a court, magistrate, or administrative tribunal in the course of presenting evidence, including disclosures to opposing counsel or witnesses in the course of civil discovery, litigation, or settlement negotiations, in response to a subpoena, or in connection with criminal law proceedings;

(6) Disclose information to foreign governments in accordance with formal or informal international agreements;

(7) Provide information to a congressional office in response to an inquiry made at the request of the individual to whom the record pertains;

(8) Provide information to the news media in accordance with guidelines contained in 28 CFR 50.2 which relate to an agency's functions relating to civil and criminal proceedings;

(9) Provide information to unions recognized as exclusive bargaining representatives under the Civil Service Reform Act of 1978, 5 U.S.C. 7111 and 7114;

(10) Provide information to third parties during the course of an investigation to the extent necessary to obtain information pertinent to the investigation;

(11) Disclose information concerning delinquent debtors to Federal creditor agencies, their employees, or their agents for the purpose of facilitating or conducting Federal administrative offset, Federal tax refund offset, Federal salary offset, or for any other authorized debt collection purpose;

(12) Disclose information to any State, Territory or Commonwealth of the United States, or the District of Columbia to assist in the collection of State, Commonwealth, Territory or District of Columbia claims pursuant to a reciprocal agreement between FMS and the State, Territory, Commonwealth or the District of Columbia;

(13) Disclose to the Defense Manpower Data Center and the United States Postal Service and other Federal agencies through authorized computer matching programs for the purpose of identifying and locating individuals who are delinquent in their repayment of debts owed to the Department or other Federal agencies in order to collect those debts through salary offset and administrative offset, or by the use of other debt collection tools;

(14) Disclose information to a contractor of the Financial Management Service for the purpose of performing routine payment processing services, subject to the same limitations applicable to FMS officers and employees under the Privacy Act; and

(15) Disclose information to a fiscal or financial agent of the Financial Management Service, its employees, agents, and contractors, or to a contractor of the Financial Management Service, for the purpose of ensuring the efficient administration of payment processing services, subject to the same or equivalent limitations applicable to FMS officers and employees under the Privacy Act.

Policies and practices for storing, retrieving, accessing, retaining, and disposing of records in the system:

Storage:

Records are maintained in electronic or magnetic media and hard copy.

Retrievability:

Records are retrieved by name, employer identification number (EIN) and social security number.

Safeguards:

These records are available only to those persons whose official duties require such access. Records are kept in limited access areas during duty hours and in locked cabinets at all other times. Records are password protected and are maintained in a building subject to 24-hour security.

Retention and disposal:

Some records are retained for three years; other records for payments are retained indefinitely. Records are retained in accordance with statute, court order or Treasury Directive 25-02, Records Disposition Management Program. Audit logs of transactions are retained for a period of six (6) months or as otherwise required by statute or court order. Records in electronic media are electronically erased using industry-accepted techniques.

System manager(s) and address:

Chief Disbursing Officer, Financial Management Service; Chief Architect, Federal Finance, Financial Management Service; or, Director, ASAP Program Office, Federal Finance, Financial Management Service, 401 14th Street, SW., Washington, DC 20227.

Notification procedure:

Inquiries under the Privacy Act of 1974 shall be sent to the Disclosure Officer at 401 14th Street, SW., Washington, DC 20227. All individuals making inquiries should provide with their request as much descriptive matter as is possible to identify the particular record desired. The system manager will advise as to whether the Service maintains the record requested by the individual.

Record access procedures:

Individuals requesting information under the Privacy Act of 1974 concerning procedures for gaining access or contesting records should write to the Disclosure Officer at the address shown above. All individuals are urged to examine the rules of the U.S. Department of the Treasury published in 31 CFR part 1, subpart C concerning requirements of this department with respect to the Privacy Act of 1974.

Contesting record procedures:

See Record Access Procedures above.

Record source categories:

Federal departments and agencies responsible for certifying, disbursing and collecting Federal payments; Treasury fiscal and financial agents that process payments and collections; and commercial database vendors. Each of these record sources may include information obtained from individuals.

Exemptions claimed for the system:

None.

TREASURY/FMS.017

System name:

Collections Records—Treasury/Financial Management Service.

System location:

Records are located at the Financial Management Service, U.S. Department of the Treasury, Liberty Center Building (Headquarters), 401 14th Street, SW., Washington, DC 20227. Records are also located throughout the United States at various Federal Reserve Banks and financial institutions, which act as Treasury's fiscal and financial agents. The address(es) of the fiscal and financial agents may be obtained from the system manager below.

Categories of individuals covered by the system:

Individuals who electronically authorize payments to the Federal government through the use of communication networks, such as the Internet, via means such as Automated Clearing House (ACH), check conversion, credit card, and/or stored value card.

Categories of records in the system:

Collections records containing information about individuals who electronically authorize payments to the Federal government to the extent such records are covered by the Privacy Act of 1974. The records may contain identifying information, such as an individual's name(s), taxpayer identifying number (i.e., social security number or employer identification number), home address, home telephone number, and personal e-mail address (home and work); an individual's employer's name, address, telephone number, and e-mail address; an individual's date of birth and driver's license number; information about an individual's bank account(s) and other types of accounts from which payments are made, such as financial institution routing and account number; credit card numbers; information about an individual's payments made to or from the United States (or to other entities such as private contractors for the Federal government), including the amount, date, status of payments, payment settlement history, and tracking numbers used to locate payment information; user name and password assigned to an individual; other information used to identify and/or authenticate the user of an electronic system to authorize and make payments, such as a unique question and answer chosen by an individual; information concerning the authority of an individual to use an electronic system (access status) and the individual's historical use of the electronic system. The records also may contain information about the governmental agency to which payment is made and information required by such agency as authorized or required by law.

The information contained in the records covered by FMS's proposed system of records is necessary to process financial transactions while protecting the government and the public from financial risks that could be associated with electronic transactions. It is noted that the proposed system covers records obtained in connection with various mechanisms that are either used currently or may be used in the future for electronic financial transactions. Not every transaction will require the maintenance of all of the information listed in this section. The categories of records cover the broad spectrum of information that might be connected to various types of transactions.

Authority for maintenance of the system:

5 U.S.C. 301; 31 U.S.C. 321; 31 U.S.C. chapter 33; 31 U.S.C. 3720

Purpose(s):

The purpose of this system is to maintain records about individuals who electronically authorize payments to the Federal government. The information contained in the records is maintained for the purpose of facilitating the collection and reporting of receipts from the public to the Federal government and to minimize the financial risk to the Government and the public of unauthorized use of electronic payment methods. Examples of payment mechanisms authorized electronically include ACH, check conversion, credit card, or stored value cards. Individuals may authorize payments using paper check conversion or Internet-based systems through programs such as “Pay.gov” and “Electronic Federal Taxpayer Payment System (EFTPS).” The information also is maintained to:

(a) Provide collections information to the Federal agency collecting the public receipts;

(b) Authenticate the identity of individuals who electronically authorize payments to the Federal government;

(c) Verify the payment history and eligibility of individuals to electronically authorize payments to the Federal government;

(d) Provide statistical information on collections operations;

(e) Test and develop enhancements to the computer systems that contain the records; and

(f) Collect debts owed to the Federal government from individuals when the debt arises from the unauthorized use of electronic payment methods.

FMS's use of the information contained in the records is necessary to process financial transactions while protecting the government and the public from financial risks that could be associated with electronic transactions. The records are collected and maintained for three primary reasons. First, in order to process a payment electronically, a payor needs to submit his or her name and bank account or credit card account information. Without such information, FMS would not be able to process the payment as requested by the individual authorizing the payment. Second, to authenticate the identity of the person initiating the electronic transaction, FMS may, in some instances, require some or all of the information described in “Categories of records in the system,” above, depending upon the level of risk associated with a particular type of transaction. Third, to verify the financial and other information provided by the person initiating the electronic transaction and to evaluate the payor's ability to make the payment authorized, FMS may compare information submitted with information available in FMS's electronic transaction historical database or commercial databases used for verification purposes, much like a store clerk determines whether someone paying by paper check has a history of writing bad checks. The ability to research historical transaction information will help eliminate the risk of fraudulent activity, such as the purchase of government products using an account with insufficient funds or using a stolen identity. By collecting and maintaining a certain amount of unique personal information about an individual who purchases goods from the government, FMS can help ensure that the individual's sensitive financial information will not be fraudulently accessed or used by anyone other than the individual.

In addition, the information contained in the covered records will be used for collateral purposes related to the processing of financial transactions, such as collection of statistical information on operations, development of computer systems, investigation of unauthorized or fraudulent activity related to electronic transactions, and the collection of debts arising out of such activity.

Routine uses of records maintained in the system, including categories of users and the purposes of such uses:

These records may be used to disclose information to:

(1) Appropriate Federal, state, local or foreign agencies responsible for investigating or prosecuting the violation of, or for enforcing or implementing, a statute, rule, regulation, order, or license, but only if the investigation, prosecution, enforcement or implementation concerns a transaction(s) or other event(s) that involved (or contemplates involvement of), in whole or part, an electronic method of collecting receipts for the Federal government. The records and information may also be disclosed to commercial database vendors to the extent necessary to obtain information pertinent to such an investigation, prosecution, enforcement or implementation.

(2) Commercial database vendors for the purposes of authenticating the identity of individuals who electronically authorize payments to the Federal government, to obtain information on such individuals' payment or check writing history, and for administrative purposes, such as resolving a question about a transaction. For purposes of this notice, the term “commercial database vendors” means vendors who maintain and disclose information from consumer credit, check verification, and address databases.

(3) A court, magistrate, or administrative tribunal, in the course of presenting evidence, including disclosures to opposing counsel or witnesses, for the purpose of civil discovery, litigation, or settlement negotiations or in response to a subpoena, where arguably relevant to the litigation, or in connection with criminal law proceedings.

(4) A congressional office in response to an inquiry made at the request of the individual to whom the record pertains.

(5) Fiscal agents, financial agents, financial institutions, and contractors for the purpose of performing financial management services, including, but not limited to, processing payments, investigating and rectifying possible erroneous reporting information, creating and reviewing statistics to improve the quality of services provided, conducting debt collection services, or developing, testing and enhancing computer systems.

(6) Federal agencies, their agents and contractors for the purposes of facilitating the collection of receipts, determining the acceptable method of collection, the accounting of such receipts, and the implementation of programs related to the receipts being collected.

(7) Federal agencies, their agents and contractors, credit bureaus, and employers of individuals who owe delinquent debt for the purpose of garnishing wages only when the debt arises from the unauthorized use of electronic payment methods. The information will be used for the purpose of collecting such debt through offset, administrative wage garnishment, referral to private collection agencies, litigation, reporting the debt to credit bureaus, or for any other authorized debt collection purpose.

(8) Financial institutions, including banks and credit unions, and credit card companies for the purpose of collections and/or investigating the accuracy of information required to complete transactions using electronic methods and for administrative purposes, such as resolving questions about a transaction.

Disclosure to consumer reporting agencies:

Debt information concerning a government claim against a debtor when the debt arises from the unauthorized use of electronic payment methods is also furnished, in accordance with 5 U.S.C. 552a(b)(12) and 31 U.S.C. 3711(e), to consumer reporting agencies, as defined by the Fair Credit Reporting Act, 5 U.S.C. 1681(f), to encourage repayment of a delinquent debt.

Policies and practices for storing, retrieving, accessing, retaining, and disposing of records in the system: Storage:

Records are maintained in electronic media.

Retrievability:

Records are retrieved by account number (such as financial institution account number or credit card account number), name (including an authentication credential, e.g., a user name), social security number, transaction identification number, or other alpha/numeric identifying information.

Safeguards:

All officials access the system of records on a need-to-know basis only, as authorized by the system manager after security background checks. Procedural and physical safeguards, such as personal accountability, audit logs, and specialized communications security, are utilized. Accountability and audit logs allow systems managers to track the actions of every user of the system. Each user has an individual password (as opposed to a group password) for which he or she is responsible. Thus, a system manager can identify access to the records by user. Access to computerized records is limited, through use of encryption, access codes, and other internal mechanisms, to those whose official duties require access. Storage facilities are secured by various means such as security guards, locked doors with key entry, and limited virtual access requiring a physical token.

Retention and disposal:

Records for payments and associated transactions will be retained for seven (7) years or as otherwise required by statute or court order. Audit logs of transactions will be retained for a period of six (6) months or as otherwise required by statute or court order. Records in electronic media are electronically erased using industry-accepted techniques.

System manager(s) and address:

Chief Architect, Electronic Commerce, Federal Finance, Financial Management Service, 401 14th Street, SW., Washington, DC 20227.

Notification procedure:

Inquiries under the Privacy Act of 1974, as amended, shall be addressed to the Disclosure Officer, Financial Management Service, 401 14th Street, SW., Washington, DC 20227. All individuals making inquiries should provide with their request as much descriptive matter as is possible to identify the particular record desired. The system manager will advise as to whether FMS maintains the records requested by the individual.

Record access procedures:

Individuals requesting information under the Privacy Act of 1974, as amended, concerning procedures for gaining access to or contesting records should write to the Disclosure Officer. All individuals are urged to examine the rules of the U.S. Department of the Treasury published in 31 CFR part 1, subpart C, and appendix G, concerning requirements of this Department with respect to the Privacy Act of 1974, as amended.

Contesting record procedures:

See “Record access procedures” above.

Record source categories:

Information in this system is provided by the individual on whom the record is maintained (or by his or her authorized representative), other persons who electronically authorize payments to the Federal government, Federal agencies responsible for collecting receipts, Federal agencies responsible for disbursing and issuing Federal payments, Treasury fiscal and financial agents that process collections, and commercial database vendors.

Exemptions claimed for the system:

None.

[FR Doc. 05-11675 Filed 6-13-05; 8:45 am]

BILLING CODE 4810-35-U